THE NATIONAL FOUNDATION ON THE ARTS AND THE HUMANITIES

SES Performance Review Board

AGENCY: The National Endowment for the Humanities.

ACTION: Notice.

SUMMARY: This notice announces the membership of the Performance Review Board of the National Endowment for the Humanities.

FOR FURTHER INFORMATION CONTACT: Timothy G. Connelly, Director of Human Resources, National Endowment for the Humanities, 1100 Pennsylvania Avenue, NW., Washington, DC 20506; telephone (202) 606-8415.

SUPPLEMENTARY INFORMATION: 5 U.S.C. 3393 and 4314(c)(1) through (5) require each agency to establish, in accordance with regulations prescribed by the Office of Personnel Management, both an executive resources board and a performance review board for SES. The National Endowment for the Humanities has a combined Board, which is referred to as the Executive Resources and Performance Review Board (ERPRB).

Effective September 1, 2002, the members of the National Endowment for the Humanities SES Performance Review Board selected to serve two-year appointments are Nancy Rogers, Director, Division of Public Programs—Board Chairman, Jeffrey Thomas, Assistant Chairman for Planning and Operations, Brett Bobley, Chief Information Officer, and Edie Manza, Director, Federal/State Partnership. Cherie Harder, Senior Counselor to the Chairman, will serve until replaced.

Bruce Cole,
Chairman.

[FR Doc. 02-21168 Filed 8-19-02; 8:45 am]

BILLING CODE 7536-01-U